DEPARTMENT OF EDUCATION

Grants for the Integration of Schools and Mental Health Systems

AGENCY: Office of Safe and Drug-Free Schools, Department of Education.

ACTION: Notice of final requirements.

SUMMARY: The Assistant Deputy Secretary for Safe and Drug-Free Schools announces five requirements under the Grants for the Integration of Schools and Mental Health Systems program. We may use these requirements for competitions in fiscal year (FY) 2006 and later years. We take this action to focus Federal financial assistance on an identified national need. We intend the requirements to improve the linkages among local school systems, local mental health systems, and local juvenile justice systems.

DATES: Effective Date: These requirements are effective June 29, 2006.

FOR FURTHER INFORMATION CONTACT: Dana Carr, U.S. Department of Education, 400 Maryland Avenue, SW., room 3E242, FB-6, Washington, DC 20202-6450. Telephone: (202) 260-0823 or via Internet: dana.carr@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The Grants for the Integration of Schools and Mental Health Systems program seeks to enhance access to mental health services through improved linkages among school, mental health, and juvenile justice systems in a manner that is complementary to and does not duplicate any previous or ongoing efforts.

We published a notice of proposed requirements for this competition in the Federal Register on March 9, 2006 (71 FR 12187). The notice of proposed requirements included a discussion of the significant issues that support the need for these requirements.

There are no differences between the notice of proposed requirements and this notice of final requirements.

Analysis of Comments and Changes

In response to our invitation in the notice of proposed requirements, we received two comments on the proposed requirements. An analysis of the comments and of any changes in the requirements since publication of the notice of proposed requirements follows.

We group major issues according to requirement. Generally, we do not address technical and other minor changes—and suggested changes the law does not authorize us to make under the applicable statutory authority.

Requirement 1—Coordination of Activities

Comment: One commenter suggested that we require applicants from States with awards under the Department of Health and Human Services' Substance Abuse and Mental Health Services Administration's Mental Health Transformation State Infrastructure Grants (MHTSIG) program (CFDA 93.243) to provide specific information relative to some MHTSIG components as part of their application for a grant under this program.

Discussion: Although we appreciate receiving information on the types of approaches that an applicant may take to demonstrate coordination with its State's MHTSIG grant, we believe that imposing specific coordination steps might actually limit the flexibility of grantees in developing coordination activities that address their unique circumstances. We do plan, however, to include the suggestions provided in the comment in the application package as examples of how applicants could coordinate their proposed projects with their State's MHTSIG grant.

Change: None.

Requirement 2—Safe Schools/Healthy Students Recipients Excluded from Receiving Awards

Comment: One commenter recommended that we allow former Safe Schools/Healthy Students grantees to apply under the Grants for the Integration of Schools and Mental Health Systems program in unique circumstances, such as if the community has demonstrated making significant progress towards improved linkages.

Discussion: The intent of the Safe Schools/Healthy Students program is to create system-level change that continues after the grant period, with the goal of sustaining linkages between schools and community systems that provide services to students and families. Awarding a grant under this program to a Safe Schools/Healthy Students program grantee would result in the duplication of this systems-level infrastructure development effort, and concentration of limited financial resources in projects that have already received significant funding to support similar activities. Therefore, we believe that no change in the proposed requirement is merited.

Change: None.

Requirement 3—Preliminary Interagency Agreement (IAA)

Comment: One commenter suggested that the process of developing the required preliminary agreement might be more important than the agreement itself. This commenter recommended that applicants document the process involved in developing relationships and involving parents, in addition to providing the required preliminary IAA.

Discussion: We agree with the commenter that the process of developing the required preliminary agreement will likely be an important part of efforts to establish a long-term collaboration between partners. However, additional documentation requirements would impose a significant burden on grantees.

Change: None.

Requirement 4—Inclusion of Parental Consent Considerations in Final IAA

Comment: One commenter suggested that parents should be significantly involved in developing the IAA and processes for parental consent, and that parent involvement should be paramount throughout the integration process.

Discussion: Parents or other caregivers must provide consent for planned mental health services, consistent with State or local laws or other requirements. We encourage grantees to include parents in developing policies and procedures for furnishing parental consent, as well as in broader efforts to establish meaningful collaboration; however, imposing additional specific requirements for parental involvement may limit the flexibility of grantees to design and implement a project that appropriately responds to local conditions and circumstances.

Change: None.

Requirement 5—Provision of Direct Services

Comment: One commenter recommended that we allow grantees to use program funds to support direct services to students in school-based settings.

Discussion: We believe that using limited program funds to hire or contract for services will do little to improve collaborative efforts or community infrastructure. If these funds were used to cover the costs of providing mental health services, the significant associated costs would not only restrict the available funding under the program to a very limited number of sites, but would also divert funding from efforts to create a sustainable infrastructure that improves students' access to mental health services. Additionally, the Department of Education offers other grant opportunities, including Safe Schools/Healthy Students initiative grants and Elementary and Secondary School Counseling grants that provide financial support for the provision of mental health services in school-based settings.

Change: None.

Note: This notice does not solicit applications. In any year in which we choose to use these requirements, we invite applications through a notice in the Federal Register.

Requirements

Requirement 1—Coordination of Activities

Recipients of a grant under the Grants for the Integration of Schools and Mental Health Systems program are required to coordinate project activities with projects funded under the Department of Health and Human Services' Substance Abuse and Mental Health Services Administration's Mental Health Transformation State Infrastructure Grants (MHTSIG) program (CFDA 93.243), if a grantee's State receives a MHTSIG award. If a recipient of a grant under the Grants for the Integration of Schools and Mental Health Systems program has received or receives a grant under the Department of Education's Emergency Response and Crisis Management (ERCM) program (CFDA 84.184E), the recipient must coordinate mental health service activities under this grant with those planned under its ERCM grant. Projects funded by this program must complement, rather than duplicate, existing or ongoing efforts.

Requirement 2—Safe Schools/Healthy Students Recipients Excluded From Receiving Awards

Former or current recipients under the Safe Schools/Healthy Students program (CFDA 84.184L) are not eligible to receive a Grant for the Integration of Schools and Mental Health Systems program. Recipients of Safe Schools/Healthy Students awards are responsible for completing a scope of work under that program that is very similar to the activities required under the Grants for the Integration of Schools and Mental Health Systems program. By restricting the applicant pool to eliminate former or current grantees under the Safe Schools/Healthy Students program, we will be able to focus Federal funds on entities that have not yet received Federal support to develop and implement strong linkages with other entities in their communities for the provision of mental health services to students.

Applicants may compete for both the Grants for the Integration of Schools and Mental Health Systems and Safe Schools/Healthy Students programs in the same year; if applicants are deemed eligible for funding in both grant competitions, the applicant will receive the larger and more comprehensive of the awards.

Requirement 3—Preliminary Interagency Agreement

Applicants for an award under the Grants for the Integration of Schools and Mental Health Systems program must develop and submit with their applications a preliminary interagency agreement (IAA). The IAA must contain the signatures of an authorized representative of at least (1) one or more State or local educational agencies or Indian tribes; (2) one or more juvenile justice authorities; and (3) one or more State or local public mental health agencies. This preliminary IAA would confirm the commitment of these partners to complete the work under the proposed project, if funded. If the applicant is funded, recipients will complete a final IAA as required by section 5541(e) of the Elementary and Secondary Education Act of 1965, as amended (ESEA). The final IAA must be completed and submitted to us, signed by all parties, no later than 12 months after the award date.

Applications that do not include the proposed preliminary IAA with all of the required signatures will be rejected and not be considered for funding.

Requirement 4—Inclusion of Parental Consent Considerations in Final IAA

The final Interagency Agreement (IAA) must include a description of policies and procedures that would ensure appropriate parental or caregiver consent for any planned services, pursuant to State or local laws or other requirements.

Requirement 5—Provision of Direct Services

Grant funds under this program must not be used to provide direct services to students.

Executive Order 12866

This notice of final requirements has been reviewed in accordance with Executive Order 12866. Under the terms of the order, we have assessed the potential costs and benefits of this regulatory action.

The potential costs associated with the notice of final requirements are those resulting from statutory requirements and those we have determined as necessary for administering this program effectively and efficiently.

In assessing the potential costs and benefits—both quantitative and qualitative—of this notice of final requirements, we have determined that the benefits of the final requirements justify the costs.

We have also determined that this regulatory action does not unduly interfere with State, local, and tribal governments in the exercise of their governmental functions.

We summarized the costs and benefits in the notice of proposed requirements.

Intergovernmental Review

This program is subject to Executive order 12372 and the regulations in 34 CFR part 79. One of the objectives of the Executive Order is to foster an intergovernmental partnership and a strengthened federalism.

The Executive order relies on processes developed by State and local governments for coordination and review of proposed Federal financial assistance.

This document provides early notification of our specific plans and actions for this program.

Electronic Access to This Document

You may view this document, as well as all other documents of this

Department published in the Federal Register, in text or Adobe Portable

Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7269.

(Catalog of Federal Domestic Assistance Number: 84.215M)
Dated: May 24, 2006.
Deborah A. Price,
Assistant Deputy Secretary for Safe and Drug-Free Schools.

[FR Doc. 06-4947 Filed 5-26-06; 8:45 am]

BILLING CODE 4000-01-P